DEPARTMENT OF COMMERCE

Foreign-Trade Zones Board

[B-59-2013]

Foreign-Trade Zone (FTZ) 155—Calhoun/Victoria Counties, Texas; Notification of Proposed Production Activity; Caterpillar, Inc.; (Excavator and Frame Assembly Production), Victoria, Texas

The Calhoun-Victoria Foreign Trade Zone, Inc., grantee of FTZ 155, submitted a notification of proposed production activity to the FTZ Board on behalf of Caterpillar, Inc. (Caterpillar), located in Victoria, Texas. The notification conforming to the requirements of the regulations of the FTZ Board (15 CFR 400.22) was received on May 29, 2013.

The Caterpillar facility is located within FTZ 155, Site 5, at 7300 Lone Tree Road, Victoria, Texas. The facility is used for the production of excavators and related frame assemblies. Pursuant to 15 CFR 400.14(b), FTZ activity would be limited to the specific foreign-status materials and components and specific finished products listed in the submitted notification (as described below) and subsequently authorized by the FTZ Board.

Production under FTZ procedures could exempt Caterpillar from customs duty payments on the foreign status components used in export production. On its domestic sales, Caterpillar would be able to choose the duty rates during customs entry procedures that apply to hydraulic track-type excavators and related fabricated frame assemblies (duty free) for the foreign status inputs noted below. Customs duties also could possibly be deferred or reduced on foreign status production equipment.

The components and materials sourced from abroad include: Paints; sealants; windshield washer fluids; lubrication oils; catalysts; antifreeze; plastic articles (PVC rods and tubes, tubes, hoses, fittings, tape, decals, seal strips, bags, plugs, caps, retaining rings, clamping blocks, and clips); rubber articles (plates, sheets, shapes, grommets, clamps, hose, fittings, floor mats, gaskets, seals, insulation and lenses); v-ribbed belts; cork articles (sheets and gaskets); paper articles (gaskets, decals, and printed matter); graphite articles, including exhaust gaskets; gaskets made of mineral substances; ceramic substrate for catalytic converters; articles of glass (windows, rearview mirrors, and lenses); fiberglass sleeves; articles of steel (wire, tubing, fittings, flanges, threaded elbows, bends/couplings, lanyard cable, chain, fasteners; articles of copper (tubing, fittings, cables, washers, screws, gaskets, and seals); articles of aluminum (tubing, fittings, and rivets); padlocks with keys; locks; keys; metal hinges; mountings; supports; tubing nameplates; diesel engines; hydraulic components (cylinders, motors, governors, and pumps); compressors; fans (blades); turbochargers; air conditioners; heat exchangers; filters; windshield washer systems; buckets for excavators; dozer blades assembled to excavators; parts of forest machinery; windshield wipers; hydraulic hammers; valves; bearings; gear boxes; torque converters; final drives; flywheels; pulleys; gaskets of metal sheeting; seals; gas springs; shims; spacers; electric motors; power converters; electromagnetic couplings; clutches and brakes; solenoids; batteries; spark plugs; ignition coils; alternators; voltage regulators; electric water heaters; electric heating resistors; apparatus for transmission or receiving data; images; speakers; DVDs/CDs; smart cards (personality modules); transceivers; radio navigational aid apparatus; radios; antennas; indicator panels; horns; visual signaling equipment; capacitors; electrical terminals; fuses; circuit breakers; relays; switches; connectors; wire terminals; bus bars; fuse blocks; panels; consoles; lamps; diodes; transistors; EPROMS/EEPROMS; sensors; transducers; coaxial cable; wiring harnesses; electric wire; navigational instruments; hydrometers; measuring and checking instruments and monitors; odometers; tachometers; automatic regulating or controlling instruments; seats for excavators; and, electric lamps, lighting equipment and parts (duty rates range from free to 6.5%).

Public comment is invited from interested parties. Submissions shall be addressed to the FTZ Board's Executive Secretary at the address below. The closing period for their receipt is July 23, 2013.

A copy of the notification will be available for public inspection at the Office of the Executive Secretary, Foreign-Trade Zones Board, Room 21013, U.S. Department of Commerce, 1401 Constitution Avenue NW., Washington, DC 20230-0002, and in the “Reading Room” section of the FTZ Board's Website, which is accessible via www.trade.gov/ftz.

FOR FURTHER INFORMATION CONTACT: Diane Finver at Diane.Finver@trade.gov (202) 482-1367.

Dated: June 7, 2013.
Andrew McGilvray,
Executive Secretary.

[FR Doc. 2013-14047 Filed 6-12-13; 8:45 am]

BILLING CODE 3510-DS-P